DEPARTMENT OF ENERGY

Federal Energy Regulatory Commission

Combined Notice of Filings #2

Take notice that the Commission received the following electric rate filings:

Docket Numbers: ER10-2249-013.

Applicants: Portland General Electric Company.

Description: Notice of Change in Status of Portland General Electric Company.

Filed Date: 10/30/25.

Accession Number: 20251030-5335.

Comment Date: 5 p.m. ET 11/20/25.

Docket Numbers: ER10-2302-014; ER19-2674-007.

Applicants: New Mexico PPA Corporation, Public Service Company of New Mexico.

Description: Triennial Market Power Analysis for Southwest Region of Public Service Company of New Mexico, et al.

Filed Date: 10/30/25.

Accession Number: 20251030-5339.

Comment Date: 5 p.m. ET 12/29/25.

Docket Numbers: ER15-793-005.

Applicants: Southern Indiana Gas and Electric Company, Inc.

Description: Notice of Change in Status of Southern Indiana Gas and Electric Company, Inc.

Filed Date: 10/30/25.

Accession Number: 20251030-5338.

Comment Date: 5 p.m. ET 11/20/25.

Docket Numbers: ER15-2589-008.

Applicants: CPV Shore, LLC.

Description: Compliance filing: Informational Filing Regarding Planned Transfer to be effective N/A.

Filed Date: 11/3/25.

Accession Number: 20251103-5209.

Comment Date: 5 p.m. ET 11/24/25.

Docket Numbers: ER20-711-004; ER17-1988-004; ER17-1984-004; ER23-2221-002.

Applicants: Big Savage, LLC, Highland North LLC, Patton Wind Farm, LLC, Cambria Wind, LLC.

Description: Notice of Non-Material Change in Status of Cambria Wind, LLC, et al.

Filed Date: 10/30/25.

Accession Number: 20251030-5337.

Comment Date: 5 p.m. ET 11/20/25.

Docket Numbers: ER20-2316-003; ER24-2921-002.

Applicants: Boswell Wind, LLC, Hillcrest Solar I, LLC.

Description: Notice of Non-Material Change in Status of Hillcrest Solar I, LLC, et al.

Filed Date: 10/30/25.

Accession Number: 20251030-5336.

Comment Date: 5 p.m. ET 11/20/25.

Docket Numbers: ER21-2635-003; ER23-1594-002; ER23-1252-003; ER23-1251-003.

Applicants: San Jacinto Grid, LLC, Ortega Grid, LLC, Hecate Energy Desert Storage 1 LLC, Hecate Energy Johanna Facility LLC.

Description: Notice of Change in Status of Hecate Energy Johanna Facility LLC, et al.

Filed Date: 10/31/25.

Accession Number: 20251031-5367.

Comment Date: 5 p.m. ET 11/21/25.

Docket Numbers: ER25-2308-002.

Applicants: Magnolia Power LLC.

Description: Notice of Non-Material Change in Status of Magnolia Power LLC.

Filed Date: 10/30/25.

Accession Number: 20251030-5340.

Comment Date: 5 p.m. ET 11/20/25.

Docket Numbers: ER26-415-000.

Applicants: San Diego Gas & Electric.

Description: TO6 Formula Depreciation Rate Change for Common Plant and Electric General Plant of San Diego Gas & Electric Company.

Filed Date: 10/30/25.

Accession Number: 20251030-5333.

Comment Date: 5 p.m. ET 11/20/25.

Docket Numbers: ER26-416-000.

Applicants: San Diego Gas & Electric.

Description: Formula Rate Charges and Transmission Formula Rate Charges for 2024 Post-Retirement Benefits Other than Pensions of San Diego Gas & Electric Company.

Filed Date: 10/30/25.

Accession Number: 20251030-5334.

Comment Date: 5 p.m. ET 11/20/25.

Docket Numbers: ER26-417-000.

Applicants: AEP Texas Inc.

Description: 205(d) Rate Filing: AEPTX-Navboot BESS Generation Interconnection Agreement to be effective 10/20/2025.

Filed Date: 11/3/25.

Accession Number: 20251103-5212.

Comment Date: 5 p.m. ET 11/24/25.

Docket Numbers: ER26-418-000.

Applicants: Horizon West Transmission, LLC.

Description: 205(d) Rate Filing: HWT Request for CWIP Incentive and Amendment to FRIP to be effective 1/3/2026.

Filed Date: 11/3/25.

Accession Number: 20251103-5227.

Comment Date: 5 p.m. ET 11/24/25.

Docket Numbers: TX26-1-000.

Applicants: CalPeak Power-Enterprise LLC, Enterprise BESS LLC.

Description: Application for Order Directing Transmission Service and Interconnection of Facilities of CalPeak Power-Enterprise LLC, et al.

Filed Date: 10/30/25.

Accession Number: 20251030-5341.

Comment Date: 5 p.m. ET 11/20/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: November 3, 2025.
Carlos D. Clay,
Deputy Secretary.

[FR Doc. 2025-20859 Filed 11-24-25; 8:45 am]

BILLING CODE 6717-01-P